DEPARTMENT OF THE INTERIOR

Bureau of Indian Affairs

Indian Gaming

AGENCY: Bureau of Indian Affairs, Interior.

ACTION: Notice of Approved Tribal-State Class III Gaming Compact.

SUMMARY: This notice publishes the approval of the Class III Tribal-State Gaming Compact between the Pyramid Lake Paiute Tribe and the State of Nevada (Extension).

DATES: Effective Date: March 21, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710 et seq., the Secretary of the Interior shall publish in the Federal Register notice of approved Tribal-State compacts for the purpose of engaging in Class III gaming activities on Indian lands. On January 11, 2013, the Pyramid Lake Paiute Tribe and the State of Nevada submitted an Extension for review and approval. The extension changes the term from a 1 year period to a 2 year period.

Dated: March 12, 2013.
Kevin K. Washburn,
Assistant Secretary—Indian Affairs.

[FR Doc. 2013-06447 Filed 3-20-13; 8:45 am]

BILLING CODE 4310-4N-P